DEPARTMENT OF ENERGY

Federal Energy Regulatory Commission

Combined Notice of Filings #1

Take notice that the Commission received the following electric rate filings:

Docket Numbers: ER24-1554-002.

Applicants: Duke Energy Progress, LLC, Duke Energy Carolinas, LLC.

Description: Compliance filing: Duke Energy Carolinas, LLC submits tariff filing per 35: Third Compliance Filing Containing Revisions to Attachment K to be effective 11/1/2025.

Filed Date: 3/26/25.

Accession Number: 20250326-5155.

Comment Date: 5 p.m. ET 4/16/25.

Docket Numbers: ER24-2133-000.

Applicants: New York Independent System Operator, Inc.

Description: Motion of New York Independent System Operator, Inc. to defer effective date and request for waiver.

Filed Date: 3/25/25.

Accession Number: 20250325-5219.

Comment Date: 5 p.m. ET 4/15/25.

Docket Numbers: ER24-2825-003.

Applicants: Southwest Power Pool, Inc.

Description: Compliance filing: Limited Modification to Compliance Filing—Tariff to Implement JTIQ Framework to be effective 11/14/2024.

Filed Date: 3/26/25.

Accession Number: 20250326-5222.

Comment Date: 5 p.m. ET 4/16/25.

Docket Numbers: ER25-1342-000.

Applicants: Second Imperial Geothermal Company L.P.

Description: Amendment to 02/19/2025, Second Imperial Geothermal Company LLC tariff filing.

Filed Date: 3/26/25.

Accession Number: 20250326-5140.

Comment Date: 5 p.m. ET 4/9/25.

Docket Numbers: ER25-1758-000.

Applicants: Midcontinent Independent System Operator, Inc.

Description: 205(d) Rate Filing: 2025-03-25_Att X—ISD/COD filing to be effective 5/25/2025.

Filed Date: 3/25/25.

Accession Number: 20250325-5167.

Comment Date: 5 p.m. ET 4/15/25.

Docket Numbers: ER25-1759-000.

Applicants: PJM Interconnection, L.L.C.

Description: 205(d) Rate Filing: Ministerial Clean-Up for Rate Schedule 43 to Rate Schedule 50 to be effective 9/17/2010.

Filed Date: 3/25/25.

Accession Number: 20250325-5179.

Comment Date: 5 p.m. ET 4/15/25.

Docket Numbers: ER25-1760-000.

Applicants: Braintree MA BESS 1 LLC.

Description: 205(d) Rate Filing: Braintree MA BESS 1 LLC MBR Tariff to be effective 3/26/2025.

Filed Date: 3/25/25.

Accession Number: 20250325-5188.

Comment Date: 5 p.m. ET 4/15/25.

Docket Numbers: ER25-1761-000.

Applicants: PJM Interconnection, L.L.C.

Description: 205(d) Rate Filing: Original GIA Service Agreement SA No. 7605; Project Identifier No. AF1-283 to be effective 2/24/2025.

Filed Date: 3/26/25.

Accession Number: 20250326-5018.

Comment Date: 5 p.m. ET 4/16/25.

Docket Numbers: ER25-1762-000.

Applicants: PJM Interconnection, L.L.C.

Description: 205(d) Rate Filing: Amendment to ISA, SA No. 5958; Queue No. AC1-074/AC2-075 (amend) to be effective 5/26/2025.

Filed Date: 3/26/25.

Accession Number: 20250326-5070.

Comment Date: 5 p.m. ET 4/16/25.

Docket Numbers: ER25-1763-000.

Applicants: Midcontinent Independent System Operator, Inc.

Description: 205(d) Rate Filing: 2025-03-26_SA 3500 METC-Calhoun County Solar 2nd Rev GIA (J857) to be effective 3/20/2025.

Filed Date: 3/26/25.

Accession Number: 20250326-5073.

Comment Date: 5 p.m. ET 4/16/25.

Docket Numbers: ER25-1764-000.

Applicants: Midcontinent Independent System Operator, Inc.

Description: 205(d) Rate Filing: 2025-03-26_SA 3974 Termination of ITC Midwest-Interstate Power E&P (J1734) to be effective. 3/27/2025.

Filed Date: 3/26/25.

Accession Number: 20250326-5075.

Comment Date: 5 p.m. ET 4/16/25.

Docket Numbers: ER25-1765-000.

Applicants: Dominion Energy South Carolina, Inc.

Description: Compliance filing: Compliance Filing-new docket to be effective 4/26/2025.

Filed Date: 3/26/25.

Accession Number: 20250326-5138.

Comment Date: 5 p.m. ET 4/16/25.

Docket Numbers: ER25-1766-000.

Applicants: AES Pike County Energy Storage, LLC.

Description: 205(d) Rate Filing: Revised Market-Based Rate Tariff to be effective 5/26/2025.

Filed Date: 3/26/25.

Accession Number: 20250326-5079.

Comment Date: 5 p.m. ET 4/16/25.

Docket Numbers: ER25-1767-000.

Applicants: Niagara Mohawk Power Corporation, New York Independent System Operator, Inc.

Description: 205(d) Rate Filing: New York Independent System Operator, Inc. submits tariff filing per 35.13(a)(2)(iii: NYISO-National Grid 205: Upgrade Construction Agrmnt for Scriba-Volney (SA2880) to be effective 3/12/2025.

Filed Date: 3/26/25.

Accession Number: 20250326-5083.

Comment Date: 5 p.m. ET 4/16/25.

Docket Numbers: ER25-1768-000.

Applicants: PJM Interconnection, L.L.C.

Description: 205(d) Rate Filing: Amendment to ISA, SA No. 1365; Queue No. H21_W68/K11 to be effective 5/26/2025.

Filed Date: 3/26/25.

Accession Number: 20250326-5087.

Comment Date: 5 p.m. ET 4/16/25.

Docket Numbers: ER25-1769-000.

Applicants: Alabama Power Company, Georgia Power Company, Mississippi Power Company.

Description: Compliance filing: Alabama Power Company submits tariff filing per 35: Order No. 904 Compliance Filing to be effective 6/24/2025.

Filed Date: 3/26/25.

Accession Number: 20250326-5089.

Comment Date: 5 p.m. ET 4/16/25.

Docket Numbers: ER25-1770-000.

Applicants: Southern California Edison Company.

Description: 205(d) Rate Filing: SCE 2025 TACBAA Update to be effective 6/1/2025.

Filed Date: 3/26/25.

Accession Number: 20250326-5105.

Comment Date: 5 p.m. ET 4/16/25.

Docket Numbers: ER25-1771-000.

Applicants: Southern California Edison Company.

Description: 205(d) Rate Filing: SCE Revision to Formula Rate Tariff Authorized 2025 PBOPs Expense Amount to be effective 1/1/2025.

Filed Date: 3/26/25.

Accession Number: 20250326-5127.

Comment Date: 5 p.m. ET 4/16/25.

Docket Numbers: ER25-1772-000.

Applicants: Otter Tail Power Company.

Description: Compliance filing: Order No. 904 Compliance Filing to be effective 6/1/2025.

Filed Date: 3/26/25.

Accession Number: 20250326-5137.

Comment Date: 5 p.m. ET 4/16/25.

Docket Numbers: ER25-1773-000.

Applicants: El Paso Electric Company.

Description: Compliance filing: OATT Order No. 904 Compliance Filing—Schedule 2, Attachments M and N to be effective 6/24/2025.

Filed Date: 3/26/25.

Accession Number: 20250326-5160.

Comment Date: 5 p.m. ET 4/16/25.

Docket Numbers: ER25-1774-000.

Applicants: Southern California Edison Company.

Description: 205(d) Rate Filing: LGIA, J90 Energy Storage (TOT1044/Q2059—SA No. 335) to be effective 3/27/2025.

Filed Date: 3/26/25.

Accession Number: 20250326-5175.

Comment Date: 5 p.m. ET 4/16/25.

Docket Numbers: ER25-1775-000.

Applicants: Alliant Energy Corporate Services, Inc.

Description: Compliance filing: Capacity Transaction, Capacity Commitment Transaction to be effective 3/31/2025.

Filed Date: 3/26/25.

Accession Number: 20250326-5201.

Comment Date: 5 p.m. ET 4/16/25.

Docket Numbers: ER25-1776-000.

Applicants: NorthWestern Corporation.

Description: Compliance filing: Order 904 Compliance Filing to be effective 3/27/2025.

Filed Date: 3/26/25.

Accession Number: 20250326-5225.

Comment Date: 5 p.m. ET 4/16/25.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, community organizations, Tribal members and others, access publicly available information and navigate Commission processes For public inquiries and assistance with making filings such as interventions, comments, or requests for rehearing, the public is encouraged to contact OPP at (202) 502-6595 or OPP@ferc.gov.

Dated: March 26, 2025.
Carlos D. Clay,
Deputy Secretary.

[FR Doc. 2025-05559 Filed 3-31-25; 8:45 am]

BILLING CODE 6717-01-P